DEPARTMENT OF THE INTERIOR

Bureau of Land Management

[UT-100-1610-DS]

Notice of Intent To Prepare an Environmental Impact Statement and Amend the St. George Field Office Resource Management Plan

AGENCY: Bureau of Land Management, Interior.

ACTION: Notice of intent.

SUMMARY: This document provides notice that the Bureau of Land Management (BLM) intends to prepare an amendment to the St. George Field Office Resource Management Plan (RMP) with an associated Environmental Impact Statement (EIS). The plan amendment will consider changes to Off Highway Vehicle (OHV) area designations, make minor modifications to the current transportation plan, and establish designation of routes for OHVs and other motorized vehicles. The planning area for the amendment includes all public lands within the St. George Field Office, which includes approximately 630,000 acres in Washington County, Utah. Preparation of this RMP amendment and EIS will fulfill the needs and obligations of the Federal Land Policy and Management Act of 1976 (FLPMA), the National Environmental Policy Act of 1969 (NEPA), applicable federal regulations, and BLM management policies.

DATES: This notice initiates the public scoping process. Comments on the scope of the plan, including issues that should be considered, should be submitted in writing to the address listed below within 30 days after the final public scoping meeting tentatively scheduled for the first week of January, 2005. However, collaboration with the public will continue throughout the plan amendment process. Dates and locations for public meetings will be announced through local news media, newsletters, and the plan amendment Web site, http://www.stgeorgeohvplan.com, at least 15 days prior to the events.

ADDRESSES: Please mail written comments to the BLM, St. George Field Office, ATTN: OHV Plan Amendment, 345 East Riverside Drive, St. George, Utah 84790; or submit comments electronically by e-mail to the Web site listed above. All public comments, including names and mailing addresses of respondents, will be available for public review at the St. George Field Office during regular business hours (7:45 a.m. to 4:30 p.m.) Monday through Friday, except holidays, and may be published as part of the EIS. Individual respondents may request confidentiality. If you wish to withhold your name or street address from public review or from disclosure under the Freedom of Information Act, please state so prominently at the beginning of your written correspondence. The BLM will honor such requests to the extent allowed by law. All submissions from organizations and businesses, and from individuals identifying themselves as representatives or officials of organizations or businesses, will be available for public inspection in their entirety.

FOR FURTHER INFORMATION CONTACT: For further information or to have your name added to the RMP amendment mailing list, contact Jim Crisp, RMP Team Leader, at the St. George Field Office at the address shown above or by telephone at 435-688-3201.

SUPPLEMENTARY INFORMATION: The St. George RMP planning area is located entirely within the boundaries of Washington County, Utah in the southwest corner of state. The area is bordered on the west by the Nevada state line, on the south by the Arizona state line, and on the east and north by Kane and Iron counties, respectively. Public lands within the St. George Field Office planning area are currently managed in accordance with the decisions in the 1999 St. George RMP and Record of Decision as amended. BLM will continue to manage OHV activities on these lands in accordance with the 1999 RMP until the plan amendment is completed and a Record of Decision is signed.

The use of public lands by motorized vehicles for recreation and other land use activities in Washington County, Utah is important to a wide variety of individuals, communities, groups, tribes, agencies, and business enterprises. Federal policy requires that BLM provide the public with sufficient information to ensure that motorized travel on public lands is conducted safely with due regard to protection of the environment and the rights of other land users and adjacent landowners. Completion of a comprehensive route designation plan (not included in the 1999 RMP) is necessary for agencies, law enforcement officials, and public land users to know where motorized travel is allowed or restricted. Preparation of this RMP amendment for the St. George Field Office is also necessary to comply with BLM's national OHV strategy and to implement recommendations of the Utah Natural Resource Coordinating Committee and BLM's Utah Resource Advisory Council on OHV management.

The BLM will work collaboratively with Washington County, various agencies, state and other local governments, Indian tribes, and interested parties to identify the management decisions that best address local, regional, and national needs and concerns. Early participation is encouraged in helping to determine future OHV management on public lands addressed in this amendment. The public scoping process will identify planning issues and provide for public comment on the development of planning criteria. Through consultation with numerous interested parties, BLM has identified the following preliminary issue themes:

1. Suitable access to public lands and resources.

2. Potential impacts to wildlife habitats, state and federally-listed plant and animal species, important watersheds, cultural resources, and lands managed for natural values.

3. Potential impacts to adjacent non-federal lands.

4. Meeting needs for motorized recreation opportunities including linked trail systems and trails designed specifically for single track and two track vehicles.

5. Potential impacts to local economies.

6. Consistency of OHV management across adjacent jurisdictions.

These preliminary issue themes may be supplemented or refined through public participation for consideration during the planning process. BLM will evaluate issues raised during scoping and place them in one of the following categories:

1. Issues to be resolved in the plan amendment;

2. Issues resolved through approved policy or administrative action; or

3. Issues beyond the scope of this plan amendment.

In evaluating issues and developing the plan amendment and EIS, BLM will use an interdisciplinary team of specialists and contractor personnel, in addition to cooperating agencies approved under written agreement. Disciplines involved in the process will include, at the minimum, specialists with expertise in wildlife, outdoor recreation, archeology, realty, rangeland management, watershed, endangered species, natural area management, social and economic analysis, law enforcement, and fire.

In addition to the scoping period, BLM will provide formal opportunities for public comment upon publication of the draft RMP amendment/draft EIS.

Dated: October 20, 2004.
Gene Terland,
Associate State Director.

[FR Doc. 04-28744 Filed 12-30-04; 8:45 am]

BILLING CODE 4310-88-P